MORRIS K. UDALL SCHOLARSHIP AND EXCELLENCE IN NATIONAL ENVIRONMENTAL POLICY FOUNDATION

The United States Institute for Environmental Conflict Resolution; Agency Information Collection Activities; Extension of Currently Approved Information Collection; Comment Request; U.S. Institute for Environmental Conflict Resolution Application for the National Roster of Environmental Dispute Resolution and Consensus Building Professionals

AGENCY: Morris K. Udall Scholarship and Excellence in National Environmental Policy Foundation, U.S. Institute for Environmental Conflict Resolution.

ACTION: Notice.

SUMMARY: In compliance with the Paperwork Reduction Act and supporting regulations, the U.S. Institute for Environmental Conflict Resolution (the U.S. Institute), part of the Morris K. Udall Foundation, will submit for Office of Management and Budget (OMB) review, a request for an extension for the currently approved information collection request (ICR), OMB Control No. 3320-0008: Application for the National Roster of Environmental Dispute Resolution and Consensus Building Professionals.

Comments are invited on: (1) Whether the proposed collection of information is necessary for the proper performance of the functions of the agency, including whether the information has practical utility; (2) the accuracy of the agency's estimate of the time spent completing the application (“burden of the proposed collection of information”), including the validity of the methodology and assumptions used; (3) ways to enhance the quality, utility, and clarity of the information collected; (4) ways to minimize the burden of the collection of information on those who are to respond, including through the use of appropriate automated electronic, mechanical, or other technological collection techniques or other forms of information technology.

DATES: Comments must be submitted on or before September 29, 2008.

ADDRESSES: Address written comments to Kathleen Docherty, Roster Manager, U.S. Institute for Environmental Conflict Resolution, 130 South Scott Ave., Tucson, Arizona 85701; Fax: 520-670-5530; Phone: 520-901-8572; E-mail: docherty@ecr.gov.

FOR FURTHER INFORMATION CONTACT: Kathleen Docherty by telephone at 520-901-8572, by fax at 520-670-5530, by e-mail at docherty@ecr.gov.

SUPPLEMENTARY INFORMATION: Abstract: The U.S. Institute is a federal program established by Congress to assist parties in resolving environmental, natural resource, and public lands conflicts. The U.S. Institute serves as an impartial, non-partisan institution, and accomplishes much of its work by partnering, contracting with, or referral to, experienced practitioners. In addition, the U.S. Institute maintains the National Roster of Environmental Dispute Resolution and Consensus Building Professionals (roster). The Application for the National Roster of Environmental Dispute Resolution and Consensus Building Professionals (application) compiles data available from the resumes of environmental neutrals (mediators, facilitators, etc.) into a format that is standardized for efficient and fair eligibility review, database searches, and retrievals. The roster, the application and the related entry criteria, were developed collaboratively and with the support of the Environmental Protection Agency. A professional needs to complete the application form one time. Once an application is approved, the roster member has access to update information online. The proposed collection is necessary to support ongoing maintenance of the roster and a continuous, open application process. The application and supplementary information are available from the U.S. Institute's Web site. From http://www.ecr.gov/Resources/Roster/Roster.aspx, choose righthand navigation bar link to: “Roster Application: Info and Log In”.

Burden Statement: Burden for potentially affected public: environmental dispute resolution and consensus building professionals (new respondents); existing roster members (for updating).

Proposed Frequency of Response: One initial, with voluntary updates approximately once per year.

Annual Number of Respondents: 30 (new response); 125 (update).

Time per Respondent: 2.5 hours (new response); 15 minutes (update).

Total Annual Hours Burden: 106 (new response and update combined).

Annual Cost Burden: $3,359 (new response); $1,399 (update).

Total Annual Cost Burden: $4,758 (new response and update combined); labor costs exclusively; no capital or start-up costs.

Changes in the Estimates: There are no changes in the labor hours in this ICR compared to the previous ICR. The reduction in cost figures from the previous ICR are due to use of current Bureau of Labor Statistics reports for valuing time (civilian workers category of “professionals and related occupations”: $44.78 per hour) rather than estimated contractor rates.

Authority: 20 U.S.C. 5601-5609.

Dated the 24th day of July 2008.
Ellen Wheeler,
Executive Director, Morris K. Udall Scholarship and Excellence in National Environmental Policy Foundation, and Federal Register Liaison Officer.

[FR Doc. E8-17426 Filed 7-29-08; 8:45 am]

BILLING CODE 6820-FN-P